FEDERAL COMMUNICATIONS COMMISSION

47 CFR Part 73

[MB Docket No. 21-49; RM-11874; DA 21-158; FR ID 17525]

Television Broadcasting Services Augusta, Georgia

AGENCY: Federal Communications Commission.

ACTION: Proposed rule.

SUMMARY: The Video Division has before it a petition for rulemaking filed November 27, 2020 (Petition) by Gray Television Licensee, LLC (Petitioner), the licensee of WRDW-TV (CBS), channel 12 (WRDW-TV or Station), Augusta, Georgia. The Petitioner requests the substitution of channel 27 for channel 12 at Augusta, Georgia in the DTV Table of Allotments.

In support of its channel substitution request, the Petitioner states that the Commission has recognized that VHF channels have certain propagation characteristics which may cause reception issues for some viewers, and also that the “reception of VHF signals require larger antennas . . . relative to UHF channels.” According to the Petitioner, “many of its viewers experience significant difficulty receiving WRDW-TV's signal” and its channel substitution proposal will allow WRDW “to deliver a more reliable over-the-air signal to viewers.” The Petitioner further states that operation on channel 27 will not result in any predicted loss of service and would result in a substantial increase in signal receivability for WRDW viewers.

We believe that the Petitioner's channel substitution proposal warrants consideration. Channel 27 can be substituted for channel 12 at Augusta, Georgia as proposed, in compliance with the principal community coverage requirements of section 73.625(a) of the Commission's rules at coordinates 33-24-37.0 N and 81-50-36.0 W. In addition, we find that this channel change meets the technical requirements set forth in sections 73.616 and 73.623 of the rules.

DATES: Comments must be filed on or before April 7, 2021 and reply comments on or before April 22, 2021.

ADDRESSES: Federal Communications Commission, Office of the Secretary, 45 L Street NE, Washington, DC 20554. In addition to filing comments with the FCC, interested parties should serve counsel for petitioner as follows: Joan Stewart, Esq., Wiley Rein LLP, 1776 Street NW, Washington, DC 20006.

FOR FURTHER INFORMATION CONTACT: Andrew Manley, Media Bureau, at (202) 418-0596 or Andrew.Manley@fcc.gov.

SUPPLEMENTARY INFORMATION: This is a synopsis of the Commission's Notice of Proposed Rulemaking, MB Docket No. 21-49; RM-11874; DA 21-158, adopted February 12, 2021, and released February 12, 2021. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See Sections 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, and 339.

2. In § 73.622 in paragraph (i) amend the Post-Transition Table of DTV Allotments under Illinois by revising the entry for Superior and York to read as follows:

§ 73.622 Digital television table of allotments.

* * * * *

(i) * * *

Community | Channel No.
* * * * *
Georgia
* * * * *
Augusta | 27, 30, 31, 42
* * * * *

[FR Doc. 2021-04719 Filed 3-5-21; 8:45 am]

BILLING CODE 6712-01-P